DEPARTMENT OF COMMERCE

National Oceanic and Atmospheric Administration

RIN 0648-XC015

New England Fishery Management Council; Public Meeting;

Correction

AGENCY: National Marine Fisheries Service (NMFS), National Oceanic and Atmospheric Administration (NOAA), Commerce.

ACTION: Notice; correction.

SUMMARY: The New England Fishery Management Council (Council) has changed the date of its Groundfish Advisory Panel Meeting on Wednesday, May 23, 2012. The date of the meeting will now be Tuesday, May 22, 2012. The meeting was announced in the Federal Register on May 4, 2012.

DATES: The meeting will be held on Tuesday, May 22, 2012, at 9 a.m.

FOR FURTHER INFORMATION CONTACT: Paul J. Howard, Executive Director, New England Fishery Management Council (978) 465-0492.

SUPPLEMENTARY INFORMATION:

Correction

The initial notice published on May 4, 2012 (77 FR 26515). The DATES caption has been corrected. The agenda and the rest of the text have not changed and will not be repeated here.

Special Accommodations

Requests for special accommodations should be addressed to the New England Fishery Management Council, 50 Water Street, Newburyport, MA 01950; telephone: (978) 465-0492.

Authority: 16 U.S.C. 1801 et seq.

Dated: May 14, 2012.
Tracey L. Thompson,
Acting Director, Office of Sustainable Fisheries, National Marine Fisheries Service.

[FR Doc. 2012-11968 Filed 5-16-12; 8:45 am]

BILLING CODE 3510-22-P